DEPARTMENT OF HEALTH AND HUMAN SERVICES

National Institutes of Health

National Institute of Biomedical Imaging and Bioengineering; Amended Notice of Meeting

Notice is hereby given a change in the meeting of the National Advisory Council for Biomedical Imaging and Bioengineering, May 21, 2012, 9:00 a.m. to 3:00 p.m., Bethesda Marriott Suites, 6711 Democracy Boulevard, Bethesda, Maryland 20817 which was published in the Federal Register on April 2, 2012, 77 FR 19675.

The meeting location has been changed to The Bolger Center, 9600 Newbridge Drive, Stained Glass Hall, Potomac, Maryland 20854. The time remains the same.

Dated: April 24, 2012.
Jennifer Spaeth,
Director, Office of Federal Advisory Committee Policy.

[FR Doc. 2012-10329 Filed 4-27-12; 8:45 am]

BILLING CODE 4140-01-P